DEPARTMENT OF JUSTICE

Notice of Lodging of De Minimis Consent Decrees Under the Comprehensive Environmental Response, Compensation and Liability Act

Under 28 CFR 50.7, notice is hereby given that on November 26, 2002, two proposed de minimis consent decrees (“consent decrees”) in United States v. Abb, Inc., et al., Civil Action No. AMD02CV3858 were lodged with the United States District Court for the District of Maryland. One is a global de minimis consent decree for all settlors except Northrup Grumman Corporation (“global de minimis consent decree”). The other is the consent decree concluded with Northrup Grumman Corporation.

In this action the United States sought cost recovery for costs incurred in connection with the Spectron, Inc. Superfund Site, located near Elkton, Maryland (the “Site”). Under the terms of the consent decrees, the proposed settling parties, 477 potentially responsible parties and 15 federal agencies, would pay approximately $2.68 million to EPA to cover past and future response costs. All of the settling defendants contributed minor amounts of waste containing hazardous substances to the Site. Each party's payment to EPA consists of its proportional share of EPA's past costs ($1,108,922) and estimated future costs ($16,880,301), with a 100% premium on the estimated future costs.

The Department of Justice will receive for a period of thirty (30) days from the date of this publication comments relating to the consent decrees. Comments should be addressed to the Assistant Attorney General, Environment and Natural Resources Division, P.O. Box 7611, U.S. Department of Justice, Washington, DC 20044-7611, and should refer to United States Ev. Abb, Inc., et al, Civil Action No. AMD02CV3858, D.J. Ref. 90-11-2-482.

The consent decrees may be examined at the Office of the United States Attorney, 101 West Lombard Street, Baltimore, Maryland 21201, and at U.S. EPA Region III, 1650 Arch Street, Philadelphia, Pennsylvania, 19103-2029. A copy of either consent decree may also be obtained by mail from the Consent Decree Library, P.O. Box 7611, U.S. Department of Justice, Washington, DC 20044-7611. In requesting a copy of either the global de minimi consent decree or the Northrup Grumman consent decree, minus appendices, please enclose a check in the amount of $7.00 (25 cents per page reproduction cost) payable to the U.S. Treasury. The appendices to both consent decrees are identical. In requesting the appendices, please enclose a check in the amount of $14.25 (25 cents per page reproduction cost).

Robert Brook,
Assistant Section Chief, Environmental Enforcement Section, Environment and Natural Resources Division.

[FR Doc. 02-31245 Filed 12-10-02; 8:45 am]

BILLING CODE 4410-15-M